Title 3—

The President

Proclamation 9546 of November 23, 2016

Thanksgiving Day, 2016

By the President of the United States of America

A Proclamation

Nearly 400 years ago, a small band of Pilgrims fled persecution and violence and came to this land as refugees in search of opportunity and the freedom to practice their faith. Though the journey was rough and their first winter harsh, the friendly embrace of an indigenous people, the Wampanoag—who offered gracious lessons in agriculture and crop production—led to their successful first harvest. The Pilgrims were grateful they could rely on the generosity of the Wampanoag people, without whom they would not have survived their first year in the new land, and together they celebrated this bounty with a festival that lasted for days and prompted the tradition of an annual day of giving thanks.

This history teaches us that the American instinct has never been to seek isolation in opposite corners; it is to find strength in our common creed and forge unity from our great diversity. On that very first thanksgiving celebration, these same ideals brought together people of different backgrounds and beliefs, and every year since, with enduring confidence in the power of faith, love, gratitude, and optimism, this force of unity has sustained us as a people. It has guided us through times of great challenge and change and allowed us to see ourselves in those who come to our shores in search of a safer, better future for themselves and their families.

On this holiday, we count our blessings and renew our commitment to giving back. We give thanks for our troops and our veterans—and their families—who give of themselves to protect the values we cherish; for the first responders, teachers, and engaged Americans who serve their communities; and for the chance to live in a country founded on the belief that all of us are created equal. But on this day of gratitude, we are also reminded that securing these freedoms and opportunities for all our people is an unfinished task. We must reflect on all we have been afforded while continuing the work of ensuring no one is left out or left behind because of who they are or where they come from.

For generations, our Nation's progress has been carried forward by those who act on the obligations we have to one another. Each year on Thanksgiving, the selflessness and decency of the American people surface in food banks and shelters across our country, in time spent caring for the sick and the stranger, and in efforts to empathize with those with whom we disagree and to recognize that every individual is worthy of compassion and care. As we gather in the company of our friends, families, and communities—just as the Pilgrims and the Wampanoag did centuries ago—let us strive to lift up others, promote tolerance and inclusiveness, and give thanks for the joy and love that surround all of us.

NOW, THEREFORE, I, BARACK OBAMA, President of the United States of America, by virtue of the authority vested in me by the Constitution and the laws of the United States, do hereby proclaim November 24, 2016, as a National Day of Thanksgiving. I encourage the people of the United States to join together—whether in our homes, places of worship, community centers, or any place of fellowship for friends and neighbors—and give thanks for all we have received in the past year, express appreciation to those whose lives enrich our own, and share our bounty with others.

IN WITNESS WHEREOF, I have hereunto set my hand this twenty-third day of November, in the year of our Lord two thousand sixteen, and of the Independence of the United States of America the two hundred and forty-first.

[FR Doc. 2016-28941

Filed 11-29-16; 11:15 am]

Billing code 3295-F7-P